DEPARTMENT OF TRANSPORTATION

Federal Aviation Administration

14 CFR Part 71

[Docket No. FAA-2014-0271; Airspace Docket No. 13-AWP-16]

RIN 2120-AA66

Modification and Establishment of Area Navigation (RNAV) Routes; Western United States

AGENCY: Federal Aviation Administration (FAA), DOT.

ACTION: Final rule.

SUMMARY: This action modifies three RNAV Q-routes and establishes five Q-routes originating in Oakland Air Route Traffic Control Center's (ARTCC) airspace. The routes promote operational efficiencies for users and provide connectivity to current and proposed RNAV en route and terminal procedures. Also, two waypoints and a fix name is changed for Q-120, and Q-128, as the proposed names already were in use.

DATES: Effective date 0901 UTC, November 13, 2014. The Director of the Federal Register approves this incorporation by reference action under 1 CFR part 51, subject to the annual revision of FAA Order 7400.9 and publication of conforming amendments.

ADDRESSES: FAA Order 7400.9Y, Airspace Designations and Reporting Points, and subsequent amendments can be viewed online at http://www.faa.gov/air_traffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: 202-267-8783.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

History

On June 9, 2014, the FAA published in the Federal Register a notice of proposed rulemaking (NPRM) to modify three RNAV Q-routes and establish 5 Q-routes originating in Oakland Air Route Traffic Control Center's (ARTCC) airspace (79 FR 32883). Interested parties were invited to participate in this rulemaking effort by submitting written comments on the proposal. No comments were received.

Differences From the NPRM

This rule changes the name of 3 waypoints. For Q-120, MENSE waypoint is changed to BETBE and LIITL waypoint is changed to TRAKY. For Q-128, NOBBY is changed to VLUST. The coordinates for these waypoints remain the same. These waypoint name changes were necessary as the proposed names already were in use or proposed in another project.

The Rule

The FAA is amending Title 14, Code of Federal Regulations (14 CFR) part 71 modifying 3 RNAV Q-routes and establishing 5 Q-routes originating in the Oakland ARTCC airspace. The routes run generally west-east, connecting the San Francisco and Los Angeles terminal areas with destinations to the east. The modified routes connect to new Standard Instrument Departure (SID) and Standard Terminal Arrival (STAR) procedures as designed in the Northern California (NorCal) Metroplex. The routes provide options to traverse or circumnavigate the restricted area R-2508 complex. The routes are described below.

Q-120: Q-120 extends between the Sacramento, CA, VORTAC (SAC) and the Redwood Falls, MN, VOR/DME (RWF). The modifications remove the SAC VORTAC at the west end of the route and replace it with the new ORRCA waypoint (WP). Additional WPs are added along the route. On the east end, the RWF VOR/DME is removed from the route and a new endpoint is established using the existing UFFDA WP, MN. The UFFDA WP is located approximately 41 nautical miles (NM) west of the RWF VOR/DME, thereby shortening the length of Q-120 by that distance. Two waypoints along the route, MENSE and LIITL, are renamed BETBE and TRAKY, respectively.

Q-128: Q-128 extends between the Linden, CA, VORTAC (LIN) and the Memphis, TN, VORTAC (MEM). The modifications remove the LIN VORTAC from the route and is replaced with the new SYRAH, CA, WP. The SYRAH WP is located approximately 7 NM southwest of the LIN VORTAC. The Bartlesville, OK, VOR/DME (BVO) is removed from the route and replaced with the VEGUC, OK, WP (approximately 12 NM southeast of the BVO) VOR/DME. The Razorback, AR, VORTAC (RZC) is also removed from the route and replaced by the renamed VLUST, AR, WP. The VLUST WP is approximately 1 NM northeast of RZC VORTAC. The MEM VORTAC is removed from the route and replaced by the MUDHO, MS, WP (approximately 7 NM southwest of the MEM VORTAC). From the MUDHO WP, Q-128 is extended by approximately 160 NM to the southeast terminating at the new east end JILLS, AL, WP. The JILLS WP is located approximately 11 NM northwest of the Crimson, AL, VORTAC (LDK).

Q130: Q130 extends between the LIN VORTAC and the Panhandle, TX, VORTAC (PNH). The modifications remove the LIN VORTAC from route and replace it with the new SYRAH, CA, WP. The Rattlesnake, NM, VORTAC (RSK) is also replaced by the new HASSL, UT, WP; and the existing TAHIB, UT, WP, is inserted between the ROCCY, UT, WP and the DIXAN, NM, WP. The PNH VORTAC remains as the eastern endpoint of Q-130.

The changes to Q-120, Q-128, and Q-130 support Performance Based Navigation procedures into or out of terminal areas and reduce the reliance on ground-based navigation aids by replacing some facilities in the route descriptions with GPS waypoints.

The following new routes are established:

Q-158: Q-158 extends from a new NTELL, CA, WP (located west of restricted area R-2508, near the Clovis, CA, VORTAC (CZQ), transiting through the northern part of R-2508, and the new JEDNA, NV, WP (northwest of Las Vegas, NV).

Q-160: Q-160 begins at the new SHVVR, CA, WP, then transits through the northern part of R-2508, and ends at the existing BIKKR, CA, WP, where it links to Q-158.

Q-162: Q-162 extends between the NTELL WP and the MYCAL, NV, WP. From NTELL, Q-162 circumnavigates around the north end of R-2508 through the existing CABAB, CA, WP and the KENNO, NV, WP, then turns southeastward through the gap between restricted areas R-2508 and R-4807A/R-4808N, to the MYCAL WP, where it links to Q-158.

Q-164: Q-164 extends between the NTELL, CA, WP and the existing ROCCY, UT, WP. Q-164 provides east- and west-bound routing north of the R-2508 and R-4807/R-4808 complexes.

Q-166: Q-166 begins at the VIKSN, CA, WP, then transits through the northeast corner of R-2508, and ends at the BIKKR, CA, WP. Q-166 connects with Q-162 at the VIKSN WP and with Q-158 and Q-160 at the BIKKR WP.

It should be noted that the routes that transit through R-2508 (i.e., Q-158, Q-160 and Q-166) are only available during times when the restricted airspace has been released to the FAA for joint use in accordance with a joint use agreement.

This action promotes user operational efficiencies and provides connectivity to current and proposed RNAV en route and terminal procedures.

High altitude RNAV routes are published in paragraph 2006 of FAA Order 7400.9Y dated August 6, 2014, and effective September 15, 2014, which is incorporated by reference in 14 CFR 71.1. The RNAV routes listed in this document are subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as required to enhance the safe and efficient flow of air traffic in the western United States.

Environmental Review

The FAA has determined that this action qualifies for categorical exclusion under the National Environmental Policy Act in accordance with FAA Order 1050.1E, “Environmental Impacts: Policy and Procedures” paragraph 311a. This airspace action is not expected to cause any potentially significant environmental impacts and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014, and effective September 15, 2014, is amended as follows:

Paragraph 2006 United States area navigation routes.

* * * * *

Q120 ORRCA, CA to UFFDA, MN [Amended]
ORRCA, CA | WP | (Lat. 38°26′37″ N., long. 121°33′06″ W.)
BETBE, NV | WP | (Lat. 39°53′32″ N., long. 119°05′50″ W.)
ZORUN, NV | WP | (Lat. 39°59′00″ N., long. 118°55′00″ W.)
GALLI, NV | WP | (Lat. 40°19′10″ N., long. 118°07′18″ W.)
JAJAY, NV | WP | (Lat. 40°44′03″ N., long. 116°49′33″ W.)
TRAKY, NV | WP | (Lat. 41°21′36″ N., long. 114°44′31″ W.)
PROXI, UT | WP | (Lat. 41°58′21″ N., long. 112°31′34″ W.)
Big Piney, WY (BPI) | VOR/DME | (Lat. 42°34′46″ N., long. 110°06′33″ W.)
JUGIV, WY | WP | (Lat. 42°57′44″ N., long. 108°08′43″ W.)
HIKOX, WY | WP | (Lat. 43°12′16″ N., long. 106°52′19″ W.)
JASTI, SD | WP | (Lat. 44°01′24″ N., long. 101°26′26″ W.)
UFFDA, MN | WP | (Lat. 44°29′46″ N., long. 96°05′25″ W.)
Q128 SYRAH, CA to JILLS, AL [Amended]
SYRAH, CA | WP | (Lat. 37°59′28″ N., long. 121°06′11″ W.)
JSICA, NV | WP | (Lat. 38°31′14″ N., long. 117°17′13″ W.)
TABLL, UT | WP | (Lat. 38°39′56″ N., long. 113°10′35″ W.)
EDLES, UT | WP | (Lat. 38°40′40″ N., long. 109°56′27″ W.)
FLOOD, CO | WP | (Lat. 38°20′24″ N., long. 105°05′38″ W.)
ZAROS, CO | WP | (Lat. 37°59′22″ N., long. 102°20′22″ W.)
VEGUC, OK | WP | (Lat. 36°48′52″ N., long. 96°00′45″ W.)
VLUST, AR | FIX | (Lat. 36°15′13″ N., long. 94°06′27″ W.)
ECIGE, AR | WP | (Lat. 35°33′53″ N., long. 91°54′08″ W.)
MUDHO, MS | WP | (Lat. 34°56′30″ N., long. 90°06′26″ W.)
JILLS, AL | WP | (Lat. 33°19′27″ N., long. 87°44′47″ W.)
Q130 SYRAH, CA to Panhandle, TX (PNH) [Amended]
SYRAH, CA | WP | (Lat. 37°59′28″ N., long. 121°06′11″ W.)
JSICA, NV | WP | (Lat. 38°31′14″ N., long. 117°17′13″ W.)
REANA, NV | WP | (Lat. 38°24′00″ N., long. 114°20′00″ W.)
ROCCY, UT | WP | (Lat. 37°49′42″ N., long. 112°00′00″ W.)
HASSL, UT | WP | (Lat. 37°34′12″ N., long. 110°53′01″ W.)
TAHIB, UT | WP | (Lat. 37°03′15″ N., long. 108°47′44″ W.)
DIXAN, NM | WP | (Lat. 36°16′51″ N., long. 105°57′20″ W.)
MIRME, NM | WP | (Lat. 35°47′01″ N., long. 103°50′32″ W.)
Panhandle, TX (PNH) | VORTAC | (Lat. 35°14′06″N., long. 101°41′57″ W.)
Q158 NTELL, CA TO JEDNA, NV [New]
NTELL, CA | WP | (Lat. 36°53′59″ N., long. 119°53′22″ W.)
PPARK, CA | WP | (Lat. 36°46′49″ N., long. 118°38′49″ W.)
TRTIS, CA | WP | (Lat. 36°36′37″ N., long. 117°06′57″ W.)
BIKKR, CA | WP | (Lat. 36°34′00″ N., long. 116°45′00″ W.)
MYCAL, NV | WP | (Lat. 36°27′37″ N., long. 116°15′51″ W.)
JEDNA, NV | WP | (Lat. 36°19′24″ N., long. 115°39′22″ W.)
Q160 SHVVR, CA TO BIKKR, CA [New]
SHVVR, CA | WP | (Lat. 37°14′24″ N., long. 119°48′49″ W.)
FAANG, CA | INT | (Lat. 37°00′00″ N., long. 118°35′03″ W.)
RIVVO, CA | WP | (Lat. 36°39′10″ N., long. 117°06′15″ W.)
BIKKR, CA | WP | (Lat. 36°34′00″ N., long. 116°45′00″ W.)
Q162 NTELL, CA TO MYCAL, NV [New]
NTELL, CA | WP | (Lat. 36°53′59″ N., long. 119°53′22″ W.)
CABAB, CA | WP | (Lat. 37°16′36″ N., long. 118°43′12″ W.)
VIKSN, CA | WP | (Lat. 37°21′03″ N., long. 117°53′36″ W.)
KENNO, NV | WP | (Lat. 37°17′53″ N., long. 117°18′37″ W.)
ESSAA, NV | WP | (Lat. 37°04′05″ N., long. 116°55′59″ W.)
TUMBE, NV | WP | (Lat. 36°48′20″ N., long. 116°40′03″ W.)
MYCAL, NV | WP | (Lat. 36°27′37″ N., long. 116°15′51″ W.)
Q164 NTELL, CA TO ROCCY, UT [New]
NTELL, CA | WP | (Lat. 36°53′59″ N., long. 119°53′22.21″ W.)
CABAB, CA | WP | (Lat. 37°16′36″ N., long. 118°43′12″ W.)
KICHI, NV | WP | (Lat. 37°58′00″ N., long. 117°11′00″ W.)
KATTS, NV | WP | (Lat. 38°20′00″ N., long. 116°20′00″ W.)
KITTN, NV | WP | (Lat. 38°19′44″ N., long. 114°57′41″ W.)
ROCCY, UT | WP | (Lat. 37°49′42″ N., long. 112°00′00″ W.)
Q166 VIKSN, CA TO BIKKR, CA [New]
VIKSN, CA | WP | (Lat. 37°21′03″ N., long. 117°53′36″ W.)
UHILL, CA | WP | (Lat. 36°53′48″ N., long. 117°13′36″ W.)
BIKKR, CA | WP | (Lat. 36°34′00″ N., long. 116°45′00″ W.)

Issued in Washington, DC, on September 9, 2014.
Ellen Crum,
Acting Manager, Airspace Policy and Regulations Group.

[FR Doc. 2014-21914 Filed 9-15-14; 8:45 am]

BILLING CODE 4910-13-P